NUCLEAR REGULATORY COMMISSION

[Docket No. 04008943; NRC-2008-0208]

Renewed Materials License, Operating License SUA-1534, Crow Butte Resources, Inc., Crow Butte Uranium In-Situ Recovery Project

AGENCY: Nuclear Regulatory Commission.

ACTION: Notice of issuance.

SUMMARY: The U.S. Nuclear Regulatory Commission (NRC) has issued a renewed license to Crow Butte Resources, Inc. (CBR) for its Crow Butte Uranium In-Situ Recovery (ISR) Project in Dawes County, Nebraska. Under conditions listed in the renewed license, the Source and Materials License SUA-1534 authorizes CBR to operate its facilities as proposed in its license renewal application, as amended, and to possess uranium source and byproduct material at the Crow Butte Uranium ISR Project.

ADDRESSES: Please refer to Docket ID NRC-2008-0208 when contacting the NRC about the availability of information regarding this document. You may obtain publicly-available information related to this document using any of the following methods:

• Federal Rulemaking Web site: Go to http://www.regulations.gov and search for Docket ID NRC-2008-0208. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. In addition, for the convenience of the reader, the ADAMS accession numbers are provided in a table under the SUPPLEMENTARY INFORMATION section of this document.

• NRC's PDR: You may examine and purchase copies of public documents at the NRC's PDR, Room O1-F21, One White Flint North, 11555 Rockville Pike, Rockville, Maryland 20852.

FOR FURTHER INFORMATION CONTACT: Ronald A. Burrows, Office of Nuclear Material Safety and Safeguards, U.S. Nuclear Regulatory Commission, Washington, DC 20555-0001, telephone: 301-415-6443; email: Ronald.Burrows@nrc.gov.

SUPPLEMENTARY INFORMATION: Part 40 of Title 10 of the Code of Federal Regulations (10 CFR) authorizes the NRC to issue a renewed license to Crow Butte Resources, Inc. (CBR) for its Crow Butte Uranium In-Situ Recovery (ISR) Project in Dawes County, Nebraska. Renewed Source and Byproduct Materials License SUA-1534 authorizes CBR to operate its facilities as proposed in its license renewal application, as amended, and to possess uranium source and byproduct material at the Crow Butte Uranium ISR Project, subject to conditions set forth in renewed License SUA-1534.

In accordance with 10 CFR 2.390 of the NRC's “Rules of Practice,” the details with respect to this action, including the Safety Evaluation Report and accompanying documentation and license, are available electronically in the NRC Library at http://www.nrc.gov/reading-rm/adams.html. From this site, you can access the NRC's Agencywide Document Access and Management System (ADAMS), which provides text and image files of the NRC's public documents. The ADAMS accession numbers for the documents related to this document are:

1 | License Renewal Application (LRA), November 27, 2007 | ML073480264
2 | LRA Revision, August 28, 2008 | ML082410902
3 | LRA Revision, May 12, 2009 | ML091470116
4 | LRA Revision, July 13, 2009 | ML091980473
5 | LRA Revision, September 17, 2010 | ML102640195
6 | LRA Revision, September 28, 2010 | ML102740030
7 | LRA Revision, February 8, 2012 | ML120450518
8 | LRA Revision, April 19, 2012 | ML121170487
9 | LRA Revision, August 16, 2012 | ML12235A355
10 | LRA Revision, August 30, 2012 | ML12250A421
11 | LRA Revision, October 4, 2012 | ML12285A075
12 | LRA Revision, March 4, 2014 | ML14064A143
13 | LRA Revision, May 15, 2014 | ML14135A414
14 | Final Environmental Assessment for the Renewal of the U.S. Nuclear Regulatory Commission License No. SUA-1534 For Crow Butte Resources, Inc., Crow Butte Project, Nebraska, NE, October 2014 | ML14288A517
15 | NRC Safety Evaluation Report, August 2014 | ML14149A433
16 | Source Materials License, Crow Butte Project, November 5, 2014 | ML13324A101

Dated at Rockville, Maryland, this 5th day of November, 2014.
For the Nuclear Regulatory Commission.
Larry W. Camper,
Director, Division of Decommissioning, Uranium Recovery and Waste Programs, Office of Nuclear Material Safety and Safeguards.

[FR Doc. 2014-27197 Filed 11-14-14; 8:45 am]

BILLING CODE 7590-01-P